DEPARTMENT OF HEALTH AND HUMAN SERVICES

Centers for Disease Control and Prevention

[30Day-06-05AK]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Intimate Partner and Sexual Violence Survey (NISVS)—New—The National Center for Injury Prevention and Control (NCIPC), Centers for Disease Control and Prevention (CDC).

Background and Brief Description

Intimate partner violence (IPV) and sexual violence (SV) are major public health problems that have serious health consequences and substantial costs for individuals, families, communities and society. Although it is well understood that IPV and SV are significant public health problems, their magnitude is not well understood and prevalence estimates vary considerably, due to under-reporting and non-standard or non-optimal survey methodology.

The NISVS pilot survey will be administered to a random sample of 3000 men and 3000 women ages 18-50. The proposed study is a critical step in the development of a national surveillance system for IPV and SV. The specific aims of this project are to: (1) Provide information that will assist in the selection of specific language to introduce IPV and SV victimization and perpetration in an ongoing national IPV and SV survey, and (2) determine the optimal order for asking questions about IPV (including stalking, physical violence, and emotional abuse) and SV. Three contexts (health, crime, and family conflict) and two question orders (victimization before perpetration and vice versa) will be evaluated to determine the context and order that best facilitates the reporting of victimization and perpetration.

Ultimately, this knowledge will assist the CDC in establishing an ongoing data collection system for monitoring IPV and SV victimization and perpetration.

There are no costs to the respondents other than their time. The total estimated annualized burden hours are 1,552.

Estimated Annual Burden Table
Type of respondent | Number of responses | Number of responses per respondent | Average burden per response (in hours)
Ineligible Household (Screened Only) | 9,039 | 1 | 1/60
Eligible, Non-Participating Household (Screened, Does Not Consent) | 3,026 | 1 | 3/60
Eligible Household (Completes Screening, Informed Consent, and Survey) | 3,000 | 1 | 25/60

Dated: March 14, 2006.
Betsey Dunaway,
Acting Reports Clearance Officer, Centers for Disease Control and Prevention.

[FR Doc. E6-4118 Filed 3-21-06; 8:45 am]

BILLING CODE 4163-18-P